DEPARTMENT OF TRANSPORTATION

Federal Aviation Administration

14 CFR Part 97

[Docket No. 30298; Amdt. No. 2096]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, US Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on March 1, 2002.
James J. Ballough,
Director, Flight Standards Service.

Adoption of the Agreement

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97.27, 97.29, 97.31, 97.33, and 97.35— [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

* * * Effective Upon Publication

FDC Date | State | City | Airport | FDC No. | Subject
02/04/02 | TX | Caddo Mills | Caddo Mills Muni | 2/0950 | NDB Rwy 35L, Amdt 2
02/13/02 | MT | Billings | Billings Logan Intl | 2/1238 | ILS Rwy 28R, Orig
02/14/02 | CA | Merced | Merced Muni-Macready Field | 2/1247 | LOC BC Rwy 12, Amdt 10B
02/14/02 | KY | Bowling Green | Bowling Green-Warren County Regional | 2/1269 | GPS Rwy 21, Orig
02/14/02 | KY | Bowling Green | Bowling Green-Warren County Regional | 2/1270 | VOR/DME Rwy 21, amdt 8
02/14/02 | FL | Tampa | Vandenburg | 2/1276 | GPS Rwy 23, Orig-D
02/15/02 | FL | Naples | Naples Muni | 2/1321 | RNAV (GPS Rwy 5, Orig
02/15/02 | MD | Elkton | Cecil County | 2/1325 | VOR/DME Rwy 31, Orig
02/15/02 | FL | Fort Pierce | St. Lucie County Intl | 2/1551 | NDB or GPS Rwy 27, Orig-A
02/15/02 | FL | Fort Pierce | St. Lucie County Intl | 2/1552 | NDB-A Orig-A
02/19/02 | NY | New York | La Guardia | 2/1412 | ILS Rwy 4 Amdt 34B
02/20/02 | NJ | Newark | Newark Intl | 2/1425 | RNAV (GPS) Rwy 11, Orig
02/20/02 | AZ | Yuma | Yuma MCAS-Yuma Intl | 2/1426 | ILS Rwy 21R, Amdt 5. This replaces FDC 2/1245 published in TL02-07 on 2/15/02
02/21/02 | OR | Medford | Rogue Valley Intl-Medford | 2/1439 | RNAV (GPS)-D, Orig
02/21/02 | AK | Dillingham | Dillingham | 2/1458 | RNAV (GPS) Rwy 19, Orig
02/21/02 | KS | Hays | Hays Regional | 2/1466 | ILS Rwy 34, Orig-A
02/21/02 | TX | McKinney | McKinney Muni | 2/1471 | GPS Rwy 17, Orig-A
02/21/02 | TX | Dallas-Fort Worth | Dallas-Fort Worth Intl | 2/1473 | Converging ILS Rwy 17C, Amdt 4C
02/21/02 | TX | Dallas-Fort Worth | Dallas-Fort Worth Intl | 2/1474 | Converging ILS Rwy 18L, Amdt 3B
02/21/02 | TX | Dallas-Fort Worth | Dallas-Fort Worth Intl | 2/1475 | Converging ILS Rwy 18R, Amdt 3C
02/21/02 | TX | Arlington | Arlington Muni | 2/1476 | Vor/DME Rwy 34, Orig
02/21/02 | TX | Dallas-Fort Worth | Dallas-Fort Worth Intl | 2/1477 | Converging ILS Rwy 36L, Amdt 3D
02/21/02 | TX | Dallas-Fort Worth | Dallas-Fort Worth Intl | 2/1478 | Converging ILS Rwy 36R, Amdt 1D
02/21/02 | TX | Dallas-Fort Worth | Dallas-Fort Worth Intl | 2/1479 | Converging ILS Rwy 13R, Amdt 4C
02/21/02 | TX | Grand Prairie | Grand Prairie Muni | 2/1481 | VOR/DME Rwy 35, Org
02/21/02 | TX | Dallas | Redbird | 2/1482 | VOR or GPS Rwy 31, Orig
02/21/02 | TX | Dallas | Redbird | 2/1483 | VOR/DME or GPS Rwy 17, Orig-A
02/21/02 | TX | Dallas | Dallas-Love Field | 2/1484 | ILS Rwy 31R, Amdt 3B
02/21/02 | TX | Dallas | Dallas-Love Field | 2/1486 | ILS Rwy 31L, Amdt 19C
02/21/02 | TX | Dallas | Dallas-Love Field | 2/1487 | ILS Rwy 13R, Amdt 4A
02/21/02 | TX | Dallas | Dallas-Love Field | 2/1488 | ILS Rwy 13L, Amdt 31
02/21/02 | TX | Dallas | Addison | 2/1489 | NDB or GPS Rwy 15, Amdt 5
02/21/02 | TX | Dallas | Addison | 2/1490 | ILS Rwy 15, Amdt 9
02/21/02 | TX | Dallas | Addison | 2/1491 | ILS Rwy 33, Amdt 1
02/21/02 | TX | Dallas-Fort Worth | Dallas-Fort Worth Intl | 2/1493 | NDB Rwy 17R, Amdt 8
02/21/02 | TX | Dallas-Fort Worth | Dallas-Fort Worth Intl | 2/1494 | ILS Rwy 13R, Amdt 5B
02/21/02 | TX | Dallas-Fort Worth | Dallas-Fort Worth Intl | 2/1495 | ILS Rwy 17C (CAT I, II, III), Amdt 7B
02/21/02 | TX | Dallas-Fort Worth | Dallas-Fort Worth Intl | 2/1496 | ILS Rwy 17L (CAT I, II, III)
02/21/02 | TX | Dallas-Fort Worth | Dallas-Fort Worth Intl | 2/1497 | ILS Rwy 18L, Amdt 17A
02/21/02 | TX | Dallas-Fort Worth | Dallas-Fort Worth Intl | 2/1498 | ILS Rwy 18R (CAT I, II, III), Amdt 5B
02/21/02 | TX | Dallas-Fort Worth | Dallas-Fort Worth Intl | 2/1499 | ILS Rwy 36L, Amdt 6B
02/21/02 | FL | Fort Lauderdale | Fort Lauderdale-Hollywood Intl | 2/1507 | VOR Rwy 27R, Amdt 11
02/21/02 | WA | Seattle | Seattle-Tacoma Intl | 2/1515 | ILS Rwy 16L, Amdt 1B
02/21/02 | MN | Duluth | Duluth Intl | 2/1523 | ILS Rwy 9 (CAT I, II), Amdt 20
02/21/02 | IL | Chicago | Chicago-O'Hare Intl | 2/1525 | RNAV (GPS) Y Rwy 22L, Orig
02/21/02 | IL | Chicago | Chicago-O'Hare Intl | 2/1531 | RNAV (GPS) Y Rwy 22R, Orig
02/21/02 | CT | Danielson | Danielson | 2/1534 | VOR-A Amdt 6
02/21/02 | TX | Temple | Temple/Draughon-Millier Central Texas Regional | 2/1538 | VOR Rwy 15, Amdt 17
02/22/02 | IL | De Kalb | De Kalb Taylor Muni | 2/1545 | VOR/DME or GPS Rwy 27, Admt 5B
02/22/02 | IL | De Kalb | De Kalb Taylor Muni | 2/1546 | NDB Rwy 27, Amdt 1A
02/22/02 | OH | Urbana | Grimes Field | 2/1563 | VOR or GPS-A, Amdt 5A
02/22/02 | CA | Long Beach | Long Beach (Daugherty Field) | 2/1569 | NBD Rwy 30, Amdt 9B
02/22/02 | IA | Centerville | Centerville Muni | 2/1570 | NDB or GPS Rwy 15, Amdt 1
02/22/02 | IA | Centerville | Centerville Muni | 2/1571 | NDB or GPS Rwy 33, Amdt 1
02/22/02 | TX | Amarillo | Tradewind | 2/1576 | VOR/DME RNAV Rwy 35, Orig-A
02/22/02 | MI | Howell | Livingston Muni | 2/1585 | RNAV (GPS) Rwy 13, Orig-A
02/25/02 | CA | Stockton | Stockton Metropolitan | 2/1638 | ILS Rwy 29R, Amdt 18C
02/25/02 | CA | Stockton | Stockton Metropolitan | 2/1639 | GPS Rwy 29R, Orig-A
02/25/02 | CA | Stockton | Stockton Metropolitan | 2/1640 | NDB Rwy 29R, Amdt 14C
02/26/02 | OK | Enid | Enig Woodring Regional | 2/1680 | VOR/Rwy 17, Amdt 12A
02/26/02 | CA | Chino | Chino | 2/1681 | VOR or GPS-B, Amdt 3B
02/26/02 | KS | Olathe | Johnson County Executive | 2/1703 | NDB Rwy 36, Amdt 1
02/26/02 | KS | Olathe | Johnson County Executive | 2/1704 | VOR Rwy 36, Amdt 11
02/22/02 | WA | Yakima | Yakima Air Terminal/McAllister Field | 2/1559 | LOC/DME BC-B, Amdt 2

[FR Doc. 02-5455 Filed 3-6-02; 8:45 am]

BILLING CODE 4910-13-M